DEPARTMENT OF THE INTERIOR

National Park Service

Denali National Park and Preserve Aircraft Overflights Advisory Council Meeting

AGENCY: National Park Service, Interior.

ACTION: Notice of meeting for the Denali National Park and Preserve Aircraft Overflights Advisory Council within the Alaska Region.

SUMMARY: The National Park Service (NPS) announces a meeting of the Denali National Park and Preserve Aircraft Overflights Advisory Council. The purpose of this meeting is to discuss mitigation of impacts from aircraft overflights at Denali National Park and Preserve. This meeting is open to the public and will have time allocated for public testimony. The public is welcomed to present written or oral comments. The meeting will be recorded and a summary will be available upon request from the Superintendent for public inspection approximately six weeks after each meeting. The Aircraft Overflights Advisory Council is authorized to operate in accordance with the provisions of the Federal Advisory Committee Act.

DATES: The Denali National Park and Preserve Aircraft Overflights Advisory Council meeting will be held on Tuesday, April 7th, from 9 a.m. to 5 p.m., Alaska Standard Time. The meeting may end early if all business is completed.

Location: National Park Service Building, 4175 Geist Road, Fairbanks, AK 99709, (907) 457-5752. The public can also attend the meeting by videoconferencing at the Talkeetna Ranger Station, 22241 South B Street, Talkeetna, AK 99676, (907) 733-2231.

FOR FURTHER INFORMATION CONTACT: Miriam Valentine, Denali Planning. E-mail: Miriam_Valentine@nps.gov. Telephone: (907) 733-9102 at Denali National Park, Talkeetna Ranger Station, PO Box 588, Talkeetna, AK 99676. For accessibility requirements please call Miriam Valentine (907) 733-9102.

SUPPLEMENTARY INFORMATION: Meeting location and dates may need to be changed based on weather or local circumstances. If the meeting dates and location are changed, notice of the new meeting will be announced on local radio stations and published in local newspapers.

The agenda for the meeting will include the following, subject to minor adjustments:

1. Call to order.

2. Roll Call and Confirmation of Quorum.

3. Chair's Welcome and Introductions.

4. Review and Approve Agenda.

5. Member Reports.

6. Agency and Public Comments.

7. Superintendent and NPS Staff Reports.

8. Agency and Public Comments.

9. Other New Business.

10. Agency and Public Comments.

11. Set time and place of next Advisory Council meeting.

12. Adjournment.

Dated: February 12, 2009.
Victor Knox,
Deputy Regional Director, Alaska Region, National Park Service.

[FR Doc. E9-4571 Filed 3-3-09; 8:45 am]

BILLING CODE 9832-01-P